DEPARTMENT OF COMMERCE

National Institute of Standards and Technology

National Institute of Standards and Technology Performance Review Board Membership

AGENCY: National Institute of Standards and Technology, Department of Commerce.

ACTION: Notice.

SUMMARY: This notice lists the membership of the National Institute of Standards and Technology Performance Review Board (NIST PRB) and supersedes the list published on September 9, 2011.

DATES: The changes to the NIST PRB membership list announced in this notice are effective on August 13, 2012.

FOR FURTHER INFORMATION CONTACT: Didi Hanlein at the National Institute of Standards and Technology, (301) 975-3000 or by email at desiree.hanlein@nist.gov.

SUPPLEMENTARY INFORMATION: The National Institute of Standards and Technology Performance Review Board (NIST PRB or Board) reviews performance appraisals, agreements, and recommended actions pertaining to employees in the Senior Executive Service and ST-3104 employees. The Board makes recommendations to the appropriate appointing authority concerning such matters so as to ensure the fair and equitable treatment of these individuals.

This notice lists the membership of the NIST PRB and supersedes the list published in the Federal Register on September 9, 2011 (76 FR 55880).

NIST PRB Members

Delwin Brockett (C), Chief Information Officer, National Institute of Standards & Technology, Gaithersburg, MD 20899, Appointment Expires: 12/31/13.

Robert Dimeo (C), Director, NIST Center for Neutron Research, National Institute of Standards & Technology, Gaithersburg, MD 20899, Appointment Expires: 12/31/12.

Stella Fiotes (C) (alternate), Chief Facilities Management Officer, National Institute of Standards & Technology, Gaithersburg, MD 20899, Appointment Expires: 12/31/12.

Ellen Herbst (C), Senior Advisor for Policy and Program Integration, Office of the Deputy Secretary, Department of Commerce, Washington, DC 20230, Appointment Expires: 12/31/2012.

Anna M. Gomez (NC), Deputy Assistant Secretary for Communication and Information, National Telecommunications & Information Administration, Department of Commerce, Washington, DC 20230, Appointment Expires: 12/31/2014.

Sivaraj Shyam-Sunder (C) (alternate), Director, Engineering Laboratory, National Institute of Standards & Technology, Gaithersburg, MD 20899, Appointment Expires: 12/31/12.

Dated: August 8, 2012.
David Robinson,
Associate Director for Management Resources.

[FR Doc. 2012-19803 Filed 8-10-12; 8:45 am]

BILLING CODE 3510-13-P